NATIONAL AERONAUTICS AND SPACE ADMINISTRATION

[Notice (20-054)]

Notice of Intent To Grant an Exclusive Patent License

AGENCY: National Aeronautics and Space Administration.

ACTION: Notice of intent to grant an exclusive patent license.

SUMMARY: NASA hereby gives notice of its intent to grant an exclusive patent license in the United States to practice the inventions described and claimed in U.S. Patent Nos. 7,790,787 and 9,777,126 entitled “Aerogel/Polymer Composite Materials,” NASA Case Numbers KSC-12890 and KSC-12890-2-DIV respectively, to AeroPolymer Holding Group, LLC, having its principal place of business in Gulfport, Florida. NASA has not yet made a determination to grant the requested license and may deny the requested license even if no objections are submitted within the comment period.

DATES: The prospective exclusive license may be granted unless NASA receives written objections, including evidence and argument no later than August 4, 2020 that establish that the grant of the license would not be consistent with the requirements regarding the licensing of federally owned inventions as set forth in the Bayh-Dole Act and implementing regulations. Competing applications completed and received by NASA no later than August 4, 2020 will also be treated as objections to the grant of the contemplated partially exclusive license. Objections submitted in response to this notice will not be made available to the public for inspection and, to the extent permitted by law, will not be released under the Freedom of Information Act.

ADDRESSES: Objections relating to the prospective license may be submitted to Mark Homer, Patent Counsel, Office of the Chief Counsel, NASA Kennedy Space Center, Mail Code CC, Kennedy Space Center, FL 32899. Email: ksc-patent-counsel@mail.ksc.nasa.gov. Telephone: 321-867-2076; Facsimile: 321-867-1817.

FOR FURTHER INFORMATION CONTACT: Jonathan Leahy, Patent Attorney, Office of the Chief Counsel, NASA John F. Kennedy Space Center, Mail Code CC, Kennedy Space Center, FL 32899. Telephone: 321-867-6553; Facsimile: 321-867-1817.

SUPPLEMENTARY INFORMATION: This notice of intent to grant an exclusive patent license is issued in accordance with 35 U.S.C. 209(e) and 37 CFR 404.7(a)(1)(i). The patent rights in this invention have been assigned to the United States of America as represented by the Administrator of the National Aeronautics and Space Administration. The prospective exclusive patent license will comply with the requirements of 35 U.S.C. 209 and 37 CFR. 404.7.

Information about other NASA inventions available for licensing can be found online at http://technology.nasa.gov.

Helen M. Galus,
Agency Counsel for Intellectual Property.

[FR Doc. 2020-15641 Filed 7-17-20; 8:45 am]

BILLING CODE 7510-13-P